FEDERAL HOUSING FINANCE BOARD

Sunshine Act Meeting Notice; Announcing a Partially Open Meeting of the Board of Directors

Time and Date: The open meeting of the Board of Directors is scheduled to begin at 10 a.m. on Wednesday, April 12, 2006. The closed portion of the meeting will follow immediately the open portion of the meeting.

Place: Board Room, First Floor, Federal Housing Finance Board, 1625 Eye Street NW., Washington DC 20006.

Status: The first portion of the meeting will be open to the public. The final portion of the meeting will be closed to the public.

Matter to be Considered at the Open Portion: Proposed Rule: Federal Home Loan Bank Director Elections. The Federal Housing Finance Board is proposing to amend its rules to better enable the Federal Home Loan Banks to identify potential members for their boards of directors who are well suited to carry out their corporate governance responsibilities.

Matter to be Considered at the Closed Portion: Periodic Update of Examination Program Development and Supervisory Findings.

FOR FURTHER INFORMATION CONTACT: Shelia Willis, Paralegal Specialist, Office of General Counsel, at 202-408-2876 or williss@fhfb.gov.

By the Federal Housing Finance Board.
Dated: April 5, 2006.
John P. Kennedy,
General Counsel.

[FR Doc. 06-3428 Filed 4-6-06; 8:51 am]

BILLING CODE 6725-01-P